DEPARTMENT OF HOUSING AND URBAN DEVELOPMENT

24 CFR Part 982

[Docket No. FR-4459-C-07]

RIN 2577-AB96

Renewal of Expiring Annual Contributions Contracts in the Tenant-Based Section 8 Program; Formula for Allocation of Housing Assistance; Correction

AGENCY: Office of Public and Indian Housing, HUD.

ACTION: Final rule.

SUMMARY: On October 21, 1999, HUD published a final rule that specified the method HUD will use in allocating housing assistance available to renew expiring contracts with public housing agencies (PHAs) for Section 8 tenant-based housing assistance. As required by statute, the October 21, 1999 final rule was the product of a negotiated rulemaking, following implementation, as further required by statute, of a HUD notice on this subject. The purpose of this document is to correct two typographical errors contained in the October 21, 1999 final rule.

DATES: Effective Date: November 22, 1999.

FOR FURTHER INFORMATION CONTACT: Gerald J. Benoit, Director, Real Estate and Housing Performance Division, Office of Public and Indian Housing, Department of Housing and Urban Development, Room 4220, 451 Seventh Street, SW, Washington, DC 20410; telephone (202) 708-0477, extension 4069 (this is not a toll-free number). Hearing or speech impaired individuals may access this number via TTY by calling the toll-free Federal Information Relay Service at 1-800-877-8339.

SUPPLEMENTARY INFORMATION: On October 21, 1999 (64 FR 56882), HUD published a final rule that specified the method HUD will use in allocating housing assistance available to renew expiring contracts with public housing agencies (PHAs) for Section 8 tenant-based housing assistance. As required by statute, the October 21, 1999 final rule was the product of a negotiated rulemaking, following implementation, as further required by statute, of a HUD notice on this subject. The purpose of this document is to correct two typographical errors contained in the October 21, 1999 final rule. Specifically, this document corrects all references to a “CACC” to read “consolidated ACC.” This document also inserts a missing hyphen in one of the references in § 982.102 to “project-based assistance.”

Accordingly, in the final rule entitled “Renewal of Expiring Annual Contributions Contracts in the Tenant-Based Section 8 Program; Formula for Allocation of Housing Assistance,” FR Document 99-27445, beginning at 64 FR 56882, in the issue of Thursday, October 21, 1999, the following corrections are made:

§ 982.102 [Corrected]

1. On page 56887, beginning in the second column, § 982.102 is corrected as follows:

a. Correct all references to “CACC” to read “consolidated ACC”; and

b. In paragraph (a), correct the reference to “project based assistance” to read “project-based assistance.”

Dated: March 22, 2000.
Harold Lucas,
Assistant Secretary for Public and Indian Housing.

[FR Doc. 00-7643 Filed 3-29-00; 8:45 am]

BILLING CODE 4210-33-P